DEPARTMENT OF TRANSPORTATION

Federal Aviation Administration

14 CFR Part 39

[Docket No. FAA-2005-20250; Directorate Identifier 2003-NM-267-AD; Amendment 39-13961; AD 2005-03-05]

RIN 2120-AA64

Airworthiness Directives; McDonnell Douglas Model MD-90-30 Airplanes

AGENCY: Federal Aviation Administration (FAA), Department of Transportation (DOT).

ACTION: Final rule; request for comments.

SUMMARY: The FAA is revising an existing airworthiness directive (AD), which applies to certain McDonnell Douglas Model MD-90-30 airplanes. This AD requires a one-time general visual inspection to detect wire chafing damage and to determine adequate clearance between the disconnect panel structure and the wires above the aft left lavatory; and corrective actions, if necessary. This new AD revises the applicability of the existing AD. This AD is prompted by the determination that certain airplanes unaffected by the existing AD are subject to the unsafe condition, and certain other airplanes should be removed from the applicability. We are issuing this AD to prevent damage to certain wires due to contact between the wires and the adjacent structure, which could result in electrical arcing and consequent smoke and fire in the cabin.

DATES: Effective February 22, 2005.

The incorporation by reference of a certain publication listed in the AD is approved by the Director of the Federal Register as of February 22, 2005.

We must receive comments on this AD by April 5, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this AD, contact Boeing Commercial Airplanes, Long Beach Division, 3855 Lakewood Boulevard, Long Beach, California 90846; Attention: Data and Service Management, Dept. C1-L5A (D800-0024). You can examine this information at the National Archives and Records Administration (NARA). For information on the availability of this material at NARA, call (202) 741-6030, or go to http://www.archives.gov/federal_register/code_of_federal_regulations/ibr_locations.html.

You can examine the contents of this AD docket on the Internet at http://dms.dot.gov, or in person at the Docket Management Facility, U.S. Department of Transportation, 400 Seventh Street, SW., room PL-401, on the plaza level of the Nassif Building, Washington, DC. This docket number is FAA-2005-20250; the directorate identifier for this docket is 2003-NM-267-AD.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

FOR FURTHER INFORMATION CONTACT: George Y. Mabuni, Senior Aerospace Engineer, Systems and Equipment Branch, ANM-130L, FAA, Los Angeles Aircraft Certification Office, 3960 Paramount Boulevard, Lakewood, California 90712-4137; telephone (562) 627-5341; fax (562) 627-5210.

SUPPLEMENTARY INFORMATION: On February 14, 2003, we issued AD 2003-04-10, amendment 39-13058 (68 FR 9513, February 28, 2003), for certain McDonnell Douglas Model MD-90-30 airplanes. That AD requires a one-time general visual inspection to find wire chafing damage and to determine adequate clearance between the disconnect panel structure and the wires above the aft left lavatory; and corrective actions, if necessary. That AD was prompted by a report of uncommanded deployment of cabin oxygen masks due to chafing of certain wires. We issued that AD to prevent damage to certain wires due to contact between the wires and the adjacent structure, which could result in electrical arcing and consequent smoke and fire in the cabin.

Actions Since Existing AD Was Issued

Since we issued AD 2003-04-10, Boeing has revised relevant service information to change the effectivity, as explained in the following section.

Relevant Service Information

AD 2003-04-10 requires accomplishing the actions specified in Boeing Alert Service Bulletin MD90-24A074, Revision 1, dated August 8, 2001. The manufacturer has since issued Revision 02, dated June 3, 2003. Revision 02 revises the effectivity by adding certain airplanes and removing others. The procedures have not changed. Accomplishing the actions specified in the service information is intended to adequately address the unsafe condition.

FAA's Determination and Requirements of the AD

We have evaluated all pertinent information, identified an unsafe condition that is likely to exist or develop on other products of this same type design, and determined that it is necessary to revise AD 2003-04-10. This new AD retains the requirements of AD 2003-04-10. This new AD revises the applicability by removing certain airplanes and adding other airplanes.

This AD requires using the revised service information described previously to perform these actions, except as discussed under “Differences Between the AD and the Service Bulletin.”

Differences Between the AD and the Service Bulletin

The service bulletin specifies a compliance time of 120 days after the issue date of Revision 1 of the service bulletin (August 8, 2001). For those airplanes newly added to the applicability in this AD, we have provided a compliance time of 6 months after the effective date of the AD to avoid potentially grounding those airplanes.

Costs of Compliance

There are about 89 airplanes of the affected design worldwide. The following table provides the estimated costs for U.S. operators to comply with this AD.

Estimated Costs
Action | Work hours | Average labor rate per hour | Parts | Cost per airplane | Number of U.S.- registered airplanes | Fleet cost
Inspection | 1 | $65 | None required | $65 | 21 | $1,365

The airplanes that are newly added to the applicability of this AD are currently operated by non-U.S. operators under foreign registry; therefore, those airplanes are not directly affected by this AD. If a newly affected airplane is imported and placed on the U.S. Register in the future, the costs provided in the above table would apply.

FAA's Determination of the Effective Date

For U.S.-registered airplanes, the changes in this new AD provide relief from the requirements of AD 2003-04-10, and none of the newly added airplanes is on the U.S. Register. Therefore, providing notice and opportunity for public comment is unnecessary before this AD is issued, and this AD may be made effective in less than 30 days after it is published in the Federal Register.

Comments Invited

Although this is a final rule that was not preceded by notice and an opportunity for public comment, we invite you to submit any relevant written data, views, or arguments regarding this AD. Send your comments to an address listed under ADDRESSES. Include “Docket No. FAA-2005-20250; Directorate Identifier 2003-NM-267-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2005-03-05 McDonnell Douglas: Amendment 39-13961. Docket No. FAA-2005-20250; Directorate Identifier 2003-NM-267-AD.

Effective Date

(a) This airworthiness directive (AD) becomes effective February 22, 2005.

Affected ADs

(b) This AD revises AD 2003-04-10, amendment 39-13058 (68 FR 9513, February 28, 2003).

Applicability

(c) This AD applies to McDonnell Douglas Model MD-90-30 airplanes, certificated in any category, as listed in Boeing Alert Service Bulletin MD90-24A074, Revision 02, dated June 3, 2003.

Unsafe Condition

(d) This AD was prompted by our determination that certain airplanes unaffected by AD 2003-04-10, amendment 39-13058, are subject to the unsafe condition, and certain other airplanes should be removed from the applicability of that AD. We are issuing this AD to prevent damage to certain wires due to contact between the wires and the adjacent structure, which could result in electrical arcing and consequent smoke and fire in the cabin.

Compliance

(e) You are responsible for having the actions required by this AD performed within the compliance times specified, unless the actions have already been done.

One-time Inspection/Corrective Actions

(f) At the applicable time specified in paragraph (f)(1) or (f)(2) of this AD: Do a one-time general visual inspection to find wire chafing damage and to determine adequate clearance between the disconnect panel structure and the wires above the aft left lavatory, in accordance with the Accomplishment Instructions of Boeing Alert Service Bulletin MD90-24A074, Revision 02, dated June 3, 2003. If no damage is found and the clearance is adequate, no further action is required by this AD.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(1) For airplanes listed in Boeing Alert Service Bulletin MD90-24A074, Revision 1, dated August 8, 2001: Inspect within 12 months after April 4, 2003 (the effective date of AD 2003-04-10).

(2) For airplanes not identified in paragraph (f)(1) of this AD: Inspect within 6 months after the effective date of this AD.

(g) Based on the findings of the inspection required by paragraph (f) of this AD, do the applicable actions specified in paragraph (g)(1) or (g)(2) of this AD before further flight in accordance with the Accomplishment Instructions of Boeing Alert Service Bulletin MD90-24A074, Revision 02, dated June 3, 2003.

(1) If no damage is found, but the clearance is inadequate: Secure the wires using tie-wraps to obtain 0.50-inch minimum clearance.

(2) If damage and/or inadequate clearance is found: Repair damaged wires, replace damaged wires with new wires, and/or secure the wires using tie-wraps to obtain 0.50-inch minimum clearance.

(h) An inspection and corrective actions are also acceptable for compliance with the requirements of paragraphs (f) and (g) of this AD, if done as specified in paragraph (h)(1) or (h)(2) of this AD, as applicable.

(1) Boeing Alert Service Bulletin MD90-24A074, dated May 14, 2001, done before April 4, 2003.

(2) Boeing Alert Service Bulletin MD90-24A074, Revision 01, dated August 8, 2001, done before the effective date of this AD.

Alternative Methods of Compliance (AMOCs)

(i) The Manager, Los Angeles Aircraft Certification Office (ACO), FAA, has the authority to approve AMOCs for this AD, if requested in accordance with the procedures found in 14 CFR 39.19.

Material Incorporated by Reference

(j) You must use Boeing Alert Service Bulletin MD90-24A074, excluding Appendix, Revision 02, dated June 3, 2003, to perform the actions that are required by this AD, unless the AD specifies otherwise. The Director of the Federal Register approved the incorporation by reference of this document in accordance with 5 U.S.C. 552(a) and 1 CFR part 51. For copies of the service information, contact Boeing Commercial Airplanes, Long Beach Division, 3855 Lakewood Boulevard, Long Beach, California 90846; Attention: Data and Service Management, Dept. C1-L5A (D800-0024). You can review copies at the Docket Management Facility office, U.S. Department of Transportation, 400 Seventh Street SW., room PL-401, Nassif Building, Washington, DC; or at the National Archives and Records Administration (NARA). For information on the availability of this material at NARA, call (202) 741-6030, or go to http://www.archives.gov/federal_register/code_of_federal_regulations/ibr_locations.html.

Issued in Renton, Washington, on January 26, 2005.
Ali Bahrami,
Manager, Transport Airplane Directorate, Aircraft Certification Service.

[FR Doc. 05-1931 Filed 2-3-05; 8:45 am]

BILLING CODE 4910-13-P